DEPARTMENT OF THE INTERIOR

National Park Service

[NPS-WASO-NRNHL-18417; PPWOCRADI0, PCU00RP14.R50000]

National Register of Historic Places; Notification of Pending Nominations and Related Actions

Nominations for the following properties being considered for listing or related actions in the National Register were received by the National Park Service before May 23, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by July 10, 2015. Before including your address, phone number, email address, or other personal identifying information in your comment, you should be aware that your entire comment—including your personal identifying information—may be made publicly available at any time. While you can ask us in your comment to withhold your personal identifying information from public review, we cannot guarantee that we will be able to do so.

Dated: May 29, 2015.
J. Paul Loether,
Chief, National Register of Historic Places/National Historic Landmarks Program.

CALIFORNIA

Los Angeles County

Hollywood Western Building, The, 5500 Hollywood Blvd., Los Angeles, 15000378

Orange County

Anaheim Orange and Lemon Association Packing House, 440 S. Anaheim Blvd., Anaheim, 15000379

Cypress Street Schoolhouse, (Latinos in 20th Century California MPS) 544 N. Cypress St., Orange, 15000380

KANSAS

Dickinson County

Smoky Hill Trail and Butterfield Overland Despatch Segment, (Santa Fe Trail MPS) 522 Golf Course Rd., Chapman, 15000381

Douglas County

Baldwin City School and Auditorium—Gymnasium, (Public Schools of Kansas MPS) 704 Chapel St., Baldwin City, 15000382

Sedgwick County

Barnes, Oscar D. and Ida, House, (Residential Resources of Wichita, Sedgwick County, Kansas 1870-1957 MPS) 901 N. Broadway Ave., Wichita, 15000383

Shawnee County

Church of the Assumption Historic District, 204, 212 SW. 8th Ave., 735 Jackson St., Topeka, 15000384

Mill Block Historic District, 101-129 N. Kansas Ave., Topeka, 15000385

South Kansas Avenue Commercial Historic District, Roughly bounded by 6th & 10th Aves., SW. Jackson & SE. Quincy Sts., Topeka, 15000386

Sherman County

Grant School, (Public Schools of Kansas MPS) 520 W. 12th St., Goodland, 15000387

Wyandotte County

Westheight Apartments Historic District, 1601-1637 Washington Blvd., Kansas City, 15000388

MASSACHUSETTS

Norfolk County

All Souls Church, 196 Elm St., Braintree, 15000389

Worcester County

Upton Center Historic District, Church, Main, Milford, N. Main, Plain, Pleasant, School & Warren Sts., Upton, 15000390

NEBRASKA

Adams County

Hastings Brewery Building and Bottling Works, 219 W. 2nd St., Hastings, 15000391

Custer County

Finch Memorial Library, 205 N. Walnut St., Arnold, 15000392

Douglas County

Druid Hall, 2412 Ames Ave., Omaha, 15000393

Omaha Power Plant Building, 505 Marcy St., Omaha, 15000394

Hall County

Stuhr Museum of the Prairie Pioneer, 3133 US 34, Grand Island, 15000396

Richardson County

Clark, R.A., House, 805 Vine St., Stella, 15000395

OREGON

Deschutes County

Pilot Butte Canal Historic District, Roughly bounded by Brightwater Dr., Cooley, Overtree & Yeoman Rds., Bend, 15000397

PUERTO RICO

Toa Baja Municipality

Ermita Nuestra Senora de la Candelaria del Plantaje, PR 866, Sabana Seca Ward, Toa Baja, 15000398

UTAH

Salt Lake County

Furgis, George and Ellen, House, 2474 East 9th South Cir., Salt Lake City, 15000399

Salt Lake Country Club and Golf Course, 2375 South 900 East, Salt Lake City, 15000400

San Juan County

Carhart Pueblo, Address Restricted, Monticello, 15000401

WISCONSIN

Dane County

University Hill Farms Historic District, Roughly bounded by N. & S. Midvale Blvd., Sheboygan Ave., N. & S. Whitney Way, N. Rock & Mineral Point Rds., Madison, 15000402

Door County

LAKELAND (steam screw) Shipwreck, (Great Lakes Shipwreck Sites of Wisconsin MPS) 6 mi. E. of Sturgeon Bay Canal, Sturgeon Bay, 15000403

Jefferson County

Shekey, Albert and Mary, House, W7526 Koshkonong Mounds Rd., Koshkonong, 15000404

Milwaukee County

Range Line Road Bridge, Range Line Rd. over Milwaukee R., River Hills, 15000405

A request for removal has been made for the following resources:

KANSAS

Barton County

Hitschmann Cattle Underpass Bridge, (Masonry Arch Bridges of Kansas TR) NE. 110 Ave. S. & NE. 190 Rd., Hitschmann, 08000298

Hitschmann Double Arch Bridge, (Masonry Arch Bridges of Kansas TR) NE. 110 Ave. S. & NE 190 Rd., Hitschmann, 08000299

Sedgwick County

McClinton Market, (African American Resources in Wichita, Kansas MPS) 1205 E 12th., Wichita, 11000396

[FR Doc. 2015-15591 Filed 6-24-15; 8:45 am]

BILLING CODE 4312-51-P